DEPARTMENT OF HEALTH AND HUMAN SERVICES

Office of the Secretary

Findings of Research Misconduct

AGENCY: Office of the Secretary, HHS.

ACTION: Notice.

Notice is hereby given that the Office of Research Integrity (ORI) has taken final action in the following case:

Nasser Chegini, Ph.D., University of Florida: Based on the report of an investigation conducted by the University of Florida (UF), the prior corrections in the scientific record noted below, and additional analysis conducted by ORI in its oversight review, ORI found that Dr. Nasser Chegini, retired as a Professor in the Department of Obstetrics and Gynecology, UF, engaged in research misconduct in research supported by National Institute of Child Health and Human Development (NICHD), National Institutes of Health (NIH), grant 2 R01 HD037432.

ORI acknowledges that the following papers were retracted as a result of the institution's investigation:

1. J Clin Endocrinol Metab 88(10):4967-4976, 2003. Retraction in: J Clin Endocrinol Metab 100(1):318, 2015 Jan.

2. Reprod Biol Endocrinol 1:125, 2003. Retraction in: Reprod Biol Endocrinol 13:25, 2015 Apr 3.

3. J Clin Endocrinol Metab 88(3):1350-1361, 2003. Retraction in: J Clin Endocrinol Metab 100(1):318, 2015 Jan.

4. Hum Reprod 21(10):2555-2563, 2006. Retraction in: Hum Reprod 30(1):249, 2015 Jan (Epub 2014 Nov 6).

5. Mol Hum Reprod 12(4):245-256, 2006. Retraction in: Mol Hum Reprod 20(12):1258, 2014 Dec (Epub 2014 Nov 13).

6. Mol Hum Reprod 13(11):797-806, 2007. Retraction in: Mol Hum Reprod 20(12):1259, 2014 Dec (Epub 2014 Nov 13).

7. Reprod Sci 15(10):993-1001, 2007. Retraction in: Reprod Sci 21(10):1326, 2014 Oct.

8. J Cell Mol Med 12(1):227-240, 2008. Retraction in: J Cell Mol Med 19(10):2512, 2015 Oct.

ORI found that Respondent engaged in research misconduct by intentionally, knowingly, or recklessly falsifying data that were included in: J Reprod Immunol 73(2):118-29, 2007 (hereafter referred to as “JRI 2007”). Specifically, ORI found that Respondent falsified data points and standard errors of the mean in bar graphs plotting matrix metalloprotease expression or activity in the following figures of JRI 2007:

• Figures 2A, 2B, 2C

• Figures 3A, 3B, 3C

• Figure 4B

• Figure 5C

• Figure 6B

• Figures 7A, 7B, 7C

• Figure 8, middle left panel and lower right panel

Dr. Chegini entered into a Voluntary Settlement Agreement with ORI, in which he voluntarily agreed to the following, beginning on July 12, 2017:

(1) Respondent has not applied for or engaged in U.S. Public Health Service (PHS)-supported research since 2012; Respondent has no intention of applying for or engaging in PHS-supported research or otherwise working with PHS; however, if within five (5) years of the effective date of the Agreement, the Respondent receives or applies for PHS support, the Respondent agreed to have his research supervised for a period of five (5) years from the date of his employment in a position in which he receives or applies for PHS support and agreed to notify his employer(s)/institution(s) of the terms of this supervision; Respondent agreed that prior to the submission of an application for PHS support for a research project on which the Respondent's participation is proposed and prior to Respondent's participation in any capacity on PHS-supported research, Respondent shall ensure that a plan for supervision of Respondent's duties is submitted to ORI for approval; the supervision plan must be designed to ensure the scientific integrity of Respondent's research contribution; Respondent agreed that he shall not participate in any PHS-supported research until such a supervision plan is submitted to and approved by ORI; Respondent agreed to maintain responsibility for compliance with the agreed upon supervision plan;

(2) Respondent agreed that for a period of five (5) years beginning on the date on which the Respondent receives or applies for PHS support, any institution employing him shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract;

(3) to exclude himself voluntarily from serving in any advisory capacity to PHS including, but not limited to, service on any PHS advisory committee, board, and/or peer review committee, or as a consultant for a period of five (5) years, beginning with the effective date of the Agreement; and

(4) as a condition of the Agreement, Respondent will request that J Reprod Immunol 73(2):118-29, 2007 be retracted.

FOR FURTHER INFORMATION CONTACT: Director, Office of Research Integrity, 1101 Wootton Parkway, Suite 750, Rockville, MD 20852, (240) 453-8200.

Kathryn M. Partin,
Director, Office of Research Integrity.

[FR Doc. 2017-16311 Filed 8-2-17; 8:45 am]

BILLING CODE 4150-31-P